DEPARTMENT OF ENERGY

National Nuclear Security Administration

Notice of Availability of the Draft Supplement Analysis of the Complex Transformation Supplemental Programmatic Environmental Impact Statement

AGENCY: National Nuclear Security Administration, Department of Energy.

ACTION: Notice of availability.

SUMMARY: The National Nuclear Security Administration (NNSA), a semi-autonomous agency within the United States Department of Energy (DOE), announces the availability of the Draft Supplement Analysis (SA) of the Complex Transformation Supplemental Programmatic Environmental Impact Statement (SPEIS). NNSA is preparing the SA to determine whether, prior to proceeding with the action to produce plutonium pits at a rate of no fewer than 80 pits per year by 2030, the existing Complex Transformation SPEIS should be supplemented, a new environmental impact statement prepared, or no further National Environmental Policy Act (NEPA) analysis is required. The Draft SA preliminarily concludes that further NEPA documentation at a programmatic level is not required; however, NNSA will consider comments on the Draft SA and publish a Final SA with a final determination. The Draft SA is an important element of the overall NEPA strategy related to fulfilling national requirements for pit production. DOE announced this NEPA strategy on June 10, 2019 (84 FR 26849).

DATES: NNSA invites the public to review and submit comments on the Draft SA through August 12, 2019. Comments received after this date will be considered to the extent practicable.

ADDRESSES: Written comments on the Draft SA or requests for information related to the SA should be sent to Ms. Jennifer Nelson, NEPA Document Manager, National Nuclear Security Administration Savannah River Field Office, P.O. Box A, Aiken, SC 29802; or sent by email to NEPA-SRS@srs.gov. Before including your address, phone number, email address, or other personal identifying information in your comment, please be advised that your entire comment—including your personal identifying information—may be made publicly available. If you wish for NNSA to withhold your name and/or other personally identifiable information, please state this prominently at the beginning of your comment. You may also submit comments anonymously.

FOR FURTHER INFORMATION CONTACT: For further information about this Notice, please contact Mr. James R. Sanderson, Office of NEPA Policy and Compliance, U.S. Department of Energy, 1000 Independence Avenue SW, Washington, DC 20585-0119; phone: 202-586-1402; email to: NEPA-SRS@srs.gov. This Notice and the Draft SA are available on the internet at https://www.energy.gov/nnsa/nnsa-nepa-reading-room.

SUPPLEMENTARY INFORMATION: National security policies require DOE, through NNSA, to maintain the U.S. nuclear weapons stockpile, as well as the nation's core competencies in nuclear weapons. NNSA has the mission to maintain and enhance the safety, security, and effectiveness of the nuclear weapons stockpile. Plutonium pits are critical components of every nuclear weapon, with nearly all current stockpile pits having been produced from 1978-1989. Today, the United States' capability to produce plutonium pits is limited.

To produce pits with enhanced safety features to meet NNSA and Department of Defense (DoD) requirements, mitigate against the risk of plutonium aging, and respond to changes in deterrent requirements driven by growing threats from peer competitors, the DoD requires NNSA to produce no fewer than 80 plutonium pits per year by 2030, and to sustain the capacity for future (Life Extension Programs and follow-on) programs. NNSA's pit production mission was emphasized as a national security imperative by the 2018 Nuclear Posture Review, issued in February 2018 by the Office of the Secretary of Defense and subsequent congressional statements of the policy of the United States. The 2018 Nuclear Posture Review announced that the United States will pursue initiatives to ensure the necessary capability, capacity, and responsiveness of the nuclear weapons infrastructure and the needed skill of the workforce, including providing the enduring capability and capacity to produce no fewer than 80 pits per year by 2030. The 2018 Nuclear Posture Review concludes that the United States must have sufficient research, design, development, and production capacity to support the sustainment of its nuclear forces.

To that end, DoD Under Secretary of Defense for Acquisition and Sustainment Ellen M. Lord and Under Secretary for Nuclear Security, and Administrator of the NNSA, Lisa E. Gordon-Hagerty issued a Joint Statement on May 10, 2018, identifying their recommended alternative to meet the pit production requirement based on the completion of an Analysis of Alternatives, an Engineering Assessment and a Workforce Analysis. To achieve the nation's requirement of producing no fewer than 80 pits per year by 2030, NNSA is proposing to repurpose the Mixed-Oxide Fuel Fabrication Facility (MFFF) at the Savannah River Site (SRS) in South Carolina to produce plutonium pits while also maximizing pit production activities at Los Alamos National Laboratory (LANL). This two-prong approach—with no fewer than 50 pits per year produced at SRS and no fewer than 30 pits per year at LANL—is proposed as the best way to manage the cost, schedule, and risk of such a vital undertaking. This approach improves the resiliency, flexibility, and redundancy of our Nuclear Security Enterprise by reducing reliance on a single production site.

On June 10, 2019, DOE announced the overall NEPA strategy related to fulfilling national requirements for pit production (84 FR 26849). DOE announced that it would prepare at least three documents including this SA, a site-specific EIS for the proposal to produce pits at SRS (also announced in that notice), and site-specific documentation for the proposal to authorize expanding pit production beyond 20 pits per year at LANL.

In 2008, NNSA prepared the Complex Transformation SPEIS, which evaluated, among other things, alternatives for producing 10-200 plutonium pits per year at different sites including LANL and SRS. In the Complex Transformation SPEIS Records of Decision, NNSA did not make any new decisions related to pit production capacity and did not foresee an imminent need to produce more than 20 pits per year to meet national security requirements.

NNSA now foresees an imminent need to provide the enduring capability and capacity to produce plutonium pits at a rate of no fewer than 80 pits per year by 2030 for the nuclear weapons stockpile as identified in the 2018 Nuclear Posture Review. NNSA has prepared the SA to determine whether, prior to proceeding with the action to produce plutonium pits at a rate of no fewer than 80 pits per year by 2030, the existing Complex Transformation SPEIS should be supplemented, a new environmental impact statement prepared, or no further NEPA analysis is required. Although pertinent regulations do not require public comment on an SA, NNSA has decided, in its discretion, that public comment in this instance would be helpful and has issued the Draft SA for public review and comment.

Signed in Washington, DC, this 21st day of June 2019, for the United States Department of Energy.
Lisa E. Gordon-Hagerty,
Under Secretary for Nuclear Security, National Nuclear Security Administration.

[FR Doc. 2019-13842 Filed 6-27-19; 8:45 am]

BILLING CODE 6450-01-P